DEPARTMENT OF ENERGY

Federal Energy Regulatory Commission

Combined Notice of Filings #2

Take notice that the Commission received the following electric rate filings:

Docket Numbers: ER10-1987-002.

Applicants: Ontario Power Generation Energy Trading, Inc.

Description: Notice of Non-Material Change in Status of Ontario Power Generation Energy Trading, Inc.

Filed Date: 6/17/16.

Accession Number: 20160617-5119.

Comments Due: 5 p.m. ET 7/8/16.

Docket Numbers: ER10-2137-016; ER14-2798-008; ER14-2799-008; ER16-750-004; ER12-164-015; ER15-1873-006; ER10-2130-016; ER10-2131-016; ER10-2138-016; ER10-2139-016; ER10-2140-016; ER10-2141-016; ER14-2187-010; ER11-4044-017; ER11-4046-016; ER10-2127-015; ER10-2125-016; ER16-1406-002; ER15-1041-006; ER15-2205-006; ER10-2133-016; ER10-2124-015; ER11-3872-017; ER10-2764-015; ER10-2132-015; ER10-2128-015.

Applicants: Beech Ridge Energy LLC, Beech Ridge Energy II LLC, Beech Ridge Energy Storage LLC, Bethel Wind Farm LLC, Forward Energy LLC, Bishop Hill Energy III LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Peak View Wind Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC, Buckeye Wind Energy LLC.

Description: Notification of Change in Facts of Beech Ridge Energy LLC, et al.

Filed Date: 6/16/16.

Accession Number: 20160616-5175.

Comments Due: 5 p.m. ET 7/7/16.

Docket Numbers: ER14-1193-001.

Applicants: West Deptford Energy, LLC.

Description: Compliance filing: Informational Filing Regarding Planned Transfer to be effective N/A.

Filed Date: 6/17/16.

Accession Number: 20160617-5113.

Comments Due: 5 p.m. ET 7/8/16.

Docket Numbers: ER16-1637-001.

Applicants: UIL Distributed Resources, LLC.

Description: Tariff Amendment: Supplement to Application for Market-Based Rate Authorization to be effective 5/7/2016.

Filed Date: 6/17/16.

Accession Number: 20160617-5171.

Comments Due: 5 p.m. ET 7/8/16.

Docket Numbers: ER16-1833-000.

Applicants: Sempra Gas & Power Marketing, LLC.

Description: Supplement to June 1, 2016 Sempra Gas & Power Marketing, LLC tariff filing.

Filed Date: 6/16/16.

Accession Number: 20160616-5172.

Comments Due: 5 p.m. ET 7/7/16.

Docket Numbers: ER16-1952-000.

Applicants: Boulder Solar Power, LLC.

Description: Initial rate filing: Boulder Shared Facilities Agreement No. 1 to be effective 7/1/2016.

Filed Date: 6/17/16.

Accession Number: 20160617-5086.

Comments Due: 5 p.m. ET 7/8/16.

Docket Numbers: ER16-1953-000.

Applicants: Boulder Solar II, LLC.

Description: Baseline eTariff Filing: Boulder Shared Facilities Agreement No. 1 to be effective 7/1/2016.

Filed Date: 6/17/16.

Accession Number: 20160617-5088.

Comments Due: 5 p.m. ET 7/8/16.

Docket Numbers: ER16-1954-000.

Applicants: Boulder Solar III, LLC.

Description: Baseline eTariff Filing: Boulder Shared Facilities Agreement No. 1 to be effective 7/1/2016.

Filed Date: 6/17/16.

Accession Number: 20160617-5089.

Comments Due: 5 p.m. ET 7/8/16.

Docket Numbers: ER16-1955-000.

Applicants: Antelope DSR 2, LLC.

Description: Baseline eTariff Filing: Antelope DSR 2, LLC MBR Tariff to be effective 6/18/2016.

Filed Date: 6/17/16.

Accession Number: 20160617-5096.

Comments Due: 5 p.m. ET 7/8/16.

Docket Numbers: ER16-1956-000.

Applicants: Western Antelope Dry Ranch LLC.

Description: Baseline eTariff Filing: Western Antelope Dry Ranch LLC MBR Tariff to be effective 6/18/2016.

Filed Date: 6/17/16.

Accession Number: 20160617-5102.

Comments Due: 5 p.m. ET 7/8/16.

Docket Numbers: ER16-1957-000.

Applicants: Niagara Mohawk Power Corporation, New York Independent System Operator, Inc.

Description: § 205(d) Rate Filing: NMPC filing SA 2283 Commercial Agreement between NMPC & NYSEG to be effective 4/20/2016.

Filed Date: 6/17/16.

Accession Number: 20160617-5114.

Comments Due: 5 p.m. ET 7/8/16.

Docket Numbers: ER16-1958-000.

Applicants: Panda Patriot LLC.

Description: Initial rate filing: Reactive Supply and Voltage Control from Generation or Other Sources Service to be effective 7/1/2016.

Filed Date: 6/17/16.

Accession Number: 20160617-5164.

Comments Due: 5 p.m. ET 7/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2016.
Kimberly D. Bose,
Secretary.

[FR Doc. 2016-14863 Filed 6-22-16; 8:45 am]

BILLING CODE 6717-01-P